DEPARTMENT OF THE INTERIOR

Fish and Wildlife Service

[FWS-HQ-ES-2017-N227; FF09E00000 178 FXES11130900000]

Information Collection Request Sent to the Office of Management and Budget for Approval; Federal Fish and Wildlife Permit Applications and Reports—Native Endangered and Threatened Species

AGENCY: Fish and Wildlife Service, Interior.

ACTION: Notice; request for comments.

SUMMARY: We (the U.S. Fish and Wildlife Service) have sent an information collection request (ICR) to the Office of Management and Budget (OMB) for review and approval. This request is for an extension of a currently approved collection. We summarize the ICR below and describe the nature of the collection and the estimated burden and cost. This information collection is scheduled to expire on January 31, 2017. We may not conduct or sponsor and a person is not required to respond to a collection of information unless it displays a currently valid OMB control number. However, under OMB regulations, we may continue to conduct or sponsor this information collection while it is pending at OMB.

DATES: You must submit comments on or before March 2, 2017.

ADDRESSES: Send your comments and suggestions on this information collection to the Desk Officer for the Department of the Interior at OMB-OIRA at (202) 395-5806 (fax) or OIRA_Submissions@omb.eop.gov (email). Please provide a copy of your comments to the Service Information Collection Clearance Officer, U.S. Fish and Wildlife Service, MS BPHC, 5275 Leesburg Pike, Falls Church, VA 22041-3803 (mail), or madonna_baucum@fws.gov (email). Please include “1018-0094” in the subject line of your comments. You may review the ICR online at http://www.reginfo.gov. Follow the instructions to review Department of the Interior collections under review by OMB.

FOR FURTHER INFORMATION CONTACT: Madonna Baucum at madonna_baucum@fws.gov (email) or 703-358-2503 (telephone).

SUPPLEMENTARY INFORMATION:

I. Abstract

We (the U.S. Fish and Wildlife Service) collect information associated with application forms 3-200-54, 3-200-55, and 3-200-56 to determine the eligibility of applicants for permits requested in accordance with the criteria in section 10 of the Endangered Species Act (16 U.S.C. 1531 et seq.; Act). Based on which permits are issued, reports are used to monitor activities associated with permitted activities. The following forms are new to this collection: 3-202-55b, 3-202-55c, 3-202-55d, 3-202-55e, 3-202-55f, and 3-202-55g.

Our regulations implementing the Act are in chapter I, subchapter B of title 50 of the Code of Federal Regulations (CFR) (50 CFR 13 and 50 CFR 17). The regulations stipulate general and specific requirements that, when met, allow us to issue permits to authorize activities that are otherwise prohibited.

II. Data

OMB Control Number: 1018-0094.

Title: Federal Fish and Wildlife Permit Applications and Reports—Native Endangered and Threatened Species; 50 CFR 13 and 17.

Service Form Numbers: FWS Forms 3-200-54, 3-200-55, 3-200-56, 3-202-55b, 3-202-55c, 3-202-55d, 3-202-55e, 3-202-55f, and 3-202-55g.

Type of Request: Revision of a currently approved collection.

Description of Respondents: Individuals; consultants; and local, State, and Tribal governments.

Respondent's Obligation: Voluntary.

Frequency of Collection: On occasion, annually, one time.

Estimated Annual Nonhour Burden Cost: $55,400.

Requirement | Annual number of respondents | Total annual responses | Completion time per response (in hours) | Total annual burden hours (rounded)
SHA/CCAA
Application (Form 3-200-54)
Individuals | 5 | 5 | 3 | 15
CCAAs | 2 | 2 | 30 | 60
SHAs | 3 | 3 | 30 | 90
Private Sector | 21 | 21 | 3 | 63
CCAAs | 16 | 16 | 30 | 480
SHAs | 5 | 5 | 30 | 150
Government | 7 | 7 | 3 | 21
CCAAs | 5 | 5 | 30 | 150
SHAs | 2 | 2 | 30 | 60
Annual report
Individuals | 10 | 10 | 8 | 80
Private Sector | 40 | 40 | 8 | 320
Government | 14 | 14 | 8 | 112
Notifications (Incidental Take)
Individuals | 1 | 1 | 1 | 1
Notifications (Change in Land Owner)
Individuals | 1 | 1 | 1 | 1
RECOVERY/INTERSTATE COMMERCE
Application (Form 3-200-55)
Individuals | 280 | 280 | 3 | 840
Private Sector | 280 | 280 | 3 | 840
Government | 80 | 80 | 3 | 240
Annual report
Individuals | 700 | 700 | 3 | 2,100
Private Sector | 748 | 748 | 3 | 2,244
Government | 800 | 800 | 3 | 2,400
Request To Revise List of Authorized Individuals
Private Sector | 30 | 30 | 0.5 | 15
Annual Report—Form 3-202-55b (Region 3 Bat Reporting Spreadsheet)
Individuals | 15 | 15 | 2.5 | 38
Private Sector | 15 | 15 | 2.5 | 38
Government | 12 | 12 | 2.5 | 30
Annual Report—Form 3-202-55c (Region 4 Bat Reporting Spreadsheet)
Individuals | 5 | 5 | 2.5 | 13
Private Sector | 5 | 5 | 2.5 | 13
Government | 5 | 5 | 2.5 | 13
Annual Report—Form 3-202-55d (Region 5 Bat Reporting Spreadsheet)
Individuals | 5 | 5 | 2.5 | 13
Private Sector | 5 | 5 | 2.5 | 13
Government | 5 | 5 | 2.5 | 13
Annual Report—Form 3-202-55e (Region 6 Bat Reporting Spreadsheet)
Individuals | 5 | 5 | 2.5 | 13
Private Sector | 5 | 5 | 2.5 | 13
Government | 5 | 5 | 2.5 | 13
Annual Report—Form 3-202-55f Non-Releasable Sea Turtle Annual Report
Individuals | 0 | 0 | 0.5 | 0
Private Sector | 2 | 2 | 0.5 | 1
Government | 5 | 5 | 0.5 | 2.5
Notification (Escape of Wildlife)
Private Sector | 1 | 1 | 1 | 1
Quarterly Report—Form 3-202-55g Sea Turtle Rehabilitation
Private Sector | 20 | 20 | .5 | 10
HABITAT CONSERVATION PLAN
Application (Form 3-200-56)
Individuals | 6 | 6 | 3 | 18
Private Sector | 6 | 6 | 3 | 18
Government | 3 | 3 | 3 | 9
Annual Report
Individuals | 30 | 30 | 10 | 300
Private Sector | 100 | 100 | 10 | 1,000
Government | 26 | 26 | 10 | 260
Plan
Individuals | 10 | 10 | 2,080 | 20,800
Private Sector | 20 | 20 | 2,080 | 41,600
Government | 16 | 16 | 2,080 | 33,280
Total | 3,382 | 3,382 |  | 107,805 *
* Figures rounded to match submission to OMB in ROCIS.

III. Comments

On October 3, 2016, we published in the Federal Register (81 FR 68029) a notice of our intent to request that OMB renew approval for this information collection. In that notice, we solicited comments for 60 days, ending on December 2, 2016. We received no comments on this information collection.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Tina A. Campbell,
Chief, Division of Policy, Performance, and Management Programs, U.S. Fish and Wildlife Service.

[FR Doc. 2017-02110 Filed 1-30-17; 8:45 am]

BILLING CODE 4333-15-P